DEPARTMENT OF ENERGY

Postponement of Public Hearing on the Draft Environmental Impact Statement for the Mountaineer Commercial Scale Carbon Capture and Storage Project, Mason County, WV

AGENCY: U.S. Department of Energy.

ACTION: Postponement of public hearing.

NOTICE: The U.S. Department of Energy (DOE) announced the availability of the Draft Environmental Impact Statement for the Mountaineer Commercial Scale Carbon Capture and Storage Project (DOE/EIS-0445D) for public review and comment in a Federal Register notice on Friday, March 11, 2011. The notice also provided the location and time for a public hearing for the Draft Environmental Impact Statement, scheduled for Wednesday, March 30, 2011. The purpose of this notice is to inform interested parties that DOE has decided to postpone the public hearing; DOE will issue another notice announcing the new date and time for this meeting.

Issued in Washington, DC on March 23, 2011.
Mark J. Matarrese,
Director, Office of Environment, Security, Safety & Health, Office of Fossil Energy.

[FR Doc. 2011-7332 Filed 3-28-11; 8:45 am]

BILLING CODE 6450-01-P